DEPARTMENT OF HOUSING AND URBAN DEVELOPMENT

[Docket No. FR-7034-N-69]

30-Day Notice of Proposed Information Collection: Operating Fund Shortfall Program Financial Reporting and Monitoring, OMB Control No.: 2577-New

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: January 7, 2022.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on September 17, 2021 at 86 FR 51011.

A. Overview of Information Collection

Title of Information Collection: OpFund Shortfall Program Financial Reporting and Monitoring.

OMB Control Number: 2577-New.

Type of Request: New.

Agency Form Numbers: HUD-XXXXX, HUD-XXXXX, HUD-XXXXX, HUD-XXXXX, HUD-52574.

Description of the Need for the Information and Proposed Use:

The Shortfall Program has been in operation for two years and was created through annual Appropriations laws providing a $25 million set-aside in the Public Housing Fund to assist Public Housing Agencies (PHAs) experiencing or at risk of financial shortfalls. The program targets PHAs with the lowest Public Housing reserves. Funding is allocated to raise PHAs' reserves to two months of expenses. The calculation that determines this value is outlined in Section 4 of the Shortfall Notice: PIH-2021-12. Along with the infusion of funds, PHAs create Improvement Plans to improve their financial situation and address financial issues. However, without a Paperwork Reduction Act (PRA) approved information collection, it is difficult to monitor the PHAs financial changes and successes in an expeditious way. OMB requested that PIH begin to collect enough information from PHAs to evaluate the efficacy of the program in improving PHA's financial situation. This PRA information collection is being submitted to improve the effectiveness of the program (through monitoring and risk management) which ultimately helps the PHAs reach sustainable financial success. This PRA information collection will include a short-form budget for PHAs to report their budget and actuals through the year so that financial and operational performance can be evaluated; an Action Item Template, which will increase accountability towards making financial improvements; and Shortfall Program Application and Appeal forms. These forms will be accessible to PHA and HUD staff through a web-based portal to increase operational efficiency.

Respondents (i.e. affected public): Public Housing Agencies.

Estimated Number of Respondents: 3,300.

Estimated Number of Responses: 4,274.

Frequency of Response: Varies.

Average Hours per Response: .55.

Total Estimated Burdens: 537.5.

Burden hours for form(s) showing zero burden hours in this collection are reflected in the OMB approval number cited or do not have a reportable burden.

B. Solicitation of Public Comment

This notice is soliciting comments from members of the pubic and affected parties concerning the collection of information described in Section A on the following:

(1) Whether the proposed collection of information is necessary for the proper performance of the functions of the agency, including whether the information will have practical utility;

(2) The accuracy of the agency's estimate of burden of the proposed collection of information;

(3) Ways to enhance the quality, utility and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of the Chief Information Officer.

[FR Doc. 2021-26556 Filed 12-7-21; 8:45 am]

BILLING CODE 4210-67-P